DEPARTMENT OF AGRICULTURE

Forest Service

Revised Notice of Intent To Prepare a Supplement to the Final Environmental Impact Statement for Gypsy Moth Management in the United States: A Cooperative Approach

AGENCIES: Forest Service and Animal and Plant Health Inspection Service, USDA.

ACTION: Notice of Intent to prepare a SEIS.

SUMMARY: On April 29, 2004 (69 FR 23492-93), the Forest Service (FS) and the Animal and Plant Health Inspection Service (APHIS) published in the Federal Register a Notice of Intent (NOI) to prepare a Supplement to the Final Environmental Impact Statement (EIS) for Gypsy Moth Management in the United States: a Cooperative Approach. The expected date for filing the Draft Supplemental EIS (SEIS) with the Environmental Protection Agency (EPA) was March 2005 and February 2006 for the Final SEIS.

On March 13, 2006 (71 FR 12674-75), the FS and APHIS published a Revised NOI in the Federal Register modifying the expected date for filing the Draft SEIS with the EPA to September 2006 and August 2007 for the Final SEIS.

Through this revised NOI, the FS and APHIS are extending the expected filing dates with the EPA for the Draft and Final SEIS.

DATES: The Draft SEIS is expected to be filed in July 2007. The Final SEIS is expected to be filed in July 2008.

FOR FURTHER INFORMATION CONTACT: Joseph L. Cook, Gypsy Moth SEIS Project Leader, Forest Service, Northeastern Area, State and Private Forestry, 180 Canfield Street, Morgantown, WV 26505. Telephone number: (304) 285-1523, e-mail: jlcook@fs.fed.us.

Individuals who use telecommunication devices for the deaf (TDD) may call the Federal Information Relay Service (FIRS) at 1-800-877-8339 between 8 a.m. and 8 p.m., Eastern Standard Time, Monday through Friday.

SUPPLEMENTARY INFORMATION: Further information can be found in the original NOI published in the Federal Register, Vol. 69, No. 83, pp. 23492-23493, on April 29, 2004.

Nature of the Decision to be Made: The responsible officials will decide whether or not to add the insecticide, tebufenozide (trade name Mimic), to their list of treatments for control of gypsy moth and whether or not to provide for the addition of other insecticides to their list of treatments for control of gypsy moth, if the other insecticides are within the range of effects and acceptable risks for the existing list of treatments.

Responsible Officials: The responsible official for the Forest Service is the Deputy Chief for State and Private Forestry. The responsible official for the Animal and Plant Health Inspection Service is the Deputy Administrator for Plant Protection and Quarantine.

Dated: January 31, 2007.
Robin L. Thompson,
Associate Deputy Chief, State and Private Forestry.

[FR Doc. E7-1980 Filed 2-6-07; 8:45 am]

BILLING CODE 3410-11-P